DEPARTMENT OF COMMERCE

National Telecommunications and Information Administration

NTIA 2021 Spectrum Policy Symposium

AGENCY: National Telecommunications and Information Administration, U.S. Department of Commerce.

ACTION: Notice of public meeting.

SUMMARY: The National Telecommunications and Information Administration (NTIA), U.S. Department of Commerce, will host an online symposium on September 21, 2021, focusing on national spectrum policy development and the evolution of new techniques and technologies for federal spectrum management, including spectrum sharing.

DATES: The symposium will be held on September 21, 2021, from 9:00 a.m. to 3:00 p.m., Eastern Daylight Time (EDT).

ADDRESSES: The symposium will take place online, as a virtual event, and will be webcast through the NTIA website at https://www.ntia.gov/other-publication/2021/2021-ntia-spectrum-policy-symposium-webcast.

FOR FURTHER INFORMATION CONTACT: John Alden, Telecommunications Specialist, Office of Spectrum Management, NTIA, at (202) 482-8046 or spectrumsymposium@ntia.gov. Please direct media inquiries to NTIA's Office of Public Affairs, (202) 482-7002; email: press@ntia.gov.

SUPPLEMENTARY INFORMATION: NTIA serves as the president's principal advisor on telecommunications policies pertaining to the nation's economic and technological advancement and establishes policies concerning use of the radio-frequency spectrum by federal agencies. See 47 U.S.C. 902(b)(2). NTIA is hosting an online symposium that will focus on developing, implementing and maintaining sustainable, national spectrum policies and spectrum management techniques. These will enable the United States to strengthen its global leadership role in the introduction of wireless telecommunications technology, services, and innovation, while also supporting the expansion of existing technologies and the nation's homeland security, national defense, and other critical government missions.

Speakers from the Department of Commerce and Congress have been invited to provide pre-recorded keynote remarks. Panelists are expected to include participants from the Federal Communications Commission, other federal agencies, and private sector and other non-government organizations. In the afternoon, NTIA's research laboratory, the Institute for Telecommunication Sciences, will host a preview of the 2022 International Symposium on Advanced Radio Technologies (ISART). The discussion will focus on areas where data could significantly benefit NTIA spectrum sharing feasibility analyses, with a goal for ISART 2022 to chart a roadmap and consensus for data-driven ways to expedite spectrum-sharing analyses and decision-making. Prior to the symposium event, NTIA will post detailed program information on its website: www.ntia.gov.

The symposium is open to the public and members of the press to view through a webcast available on the NTIA website. While it is not required, NTIA asks that online attendees provide registration information prior to the event. This information will include names, email addresses, and organizations (optional). Registration information, the agenda, meeting updates, if any, and other relevant documents will be available on NTIA's website.

The event webcast will be close-captioned. Individuals requiring special accommodations, such as sign language interpretation or other ancillary aids, should notify Mr. Alden at the contact information listed above at least ten (10) business days before the event.

Dated: August 12, 2021.
Kathy Smith,
Chief Counsel, National Telecommunications and Information Administration.

[FR Doc. 2021-17620 Filed 8-16-21; 8:45 am]

BILLING CODE 3510-60-P